DEPARTMENT OF ENERGY

Federal Energy Regulatory Commission

Combined Notice of Filings

Take notice that the Commission has received the following Natural Gas Pipeline Rate and Refund Report filings:

Filings Instituting Proceedings

Docket Numbers: RP21-1114-000.

Applicants: Iroquois Gas Transmission System, L.P.

Description: § 4(d) Rate Filing: 9.15.21 Negotiated Rates—Spark Energy Gas, LLC R-3045-27 to be effective 11/1/2021.

Filed Date: 9/15/21.

Accession Number: 20210915-5041.

Comment Date: 5 p.m. ET 9/27/21.

Docket Numbers: RP21-1115-000.

Applicants: Iroquois Gas Transmission System, L.P.

Description: § 4(d) Rate Filing: 9.15.21 Negotiated Rates—Spark Energy Gas, LLC R-3045-28 to be effective 11/1/2021.

Filed Date: 9/15/21.

Accession Number: 20210915-5043.

Comment Date: 5 p.m. ET 9/27/21.

Docket Numbers: RP21-1116-000.

Applicants: Iroquois Gas Transmission System, L.P.

Description: § 4(d) Rate Filing: 9.15.21 Negotiated Rates—Twin Eagle Resource Management, LLC R-7300-20 to be effective 11/1/2021.

Filed Date: 9/15/21.

Accession Number: 20210915-5047.

Comment Date: 5 p.m. ET 9/27/21.

Docket Numbers: RP21-1117-000.

Applicants: Iroquois Gas Transmission System, L.P.

Description: § 4(d) Rate Filing: 9.15.21 Negotiated Rates—Twin Eagle Resource Management, LLC R-7300-21 to be effective 11/1/2021.

Filed Date: 9/15/21.

Accession Number: 20210915-5049.

Comment Date: 5 p.m. ET 9/27/21.

Docket Numbers: RP21-1118-000.

Applicants: Iroquois Gas Transmission System, L.P.

Description: § 4(d) Rate Filing: 9.15.21 Negotiated Rates—Uniper Global Commodities North America LLC R-7650-04 to be effective 11/1/2021.

Filed Date: 9/15/21.

Accession Number: 20210915-5053.

Comment Date: 5 p.m. ET 9/27/21.

Docket Numbers: RP21-1119-000.

Applicants: Tres Palacios Gas Storage LLC.

Description: Annual Penalty Disbursement Report of Tres Palacios Gas Storage LLC under RP21-1119.

Filed Date: 9/15/21.

Accession Number: 20210915-5093.

Comment Date: 5 p.m. ET 9/27/21.

Docket Numbers: RP21-1120-000.

Applicants: Iroquois Gas Transmission System, L.P.

Description: § 4(d) Rate Filing: 9.16.21 Negotiated Rates—Citadel Energy Marketing LLC R-7705-08 to be effective 11/1/2021.

Filed Date: 9/16/21.

Accession Number: 20210916-5004.

Comment Date: 5 p.m. ET 9/28/21.

Docket Numbers: RP21-1121-000.

Applicants: Iroquois Gas Transmission System, L.P.

Description: § 4(d) Rate Filing: 9.16.21 Negotiated Rates—Citadel Energy Marketing LLC R-7705-07 to be effective 11/1/2021.

Filed Date: 9/16/21.

Accession Number: 20210916-5005.

Comment Date: 5 p.m. ET 9/28/21.

Docket Numbers: RP21-1122-000.

Applicants: Iroquois Gas Transmission System, L.P.

Description: § 4(d) Rate Filing: 9.16.21 Negotiated Rates—Macquarie Energy LLC R-4090-23 to be effective 11/1/2021.

Filed Date: 9/16/21.

Accession Number: 20210916-5006.

Comment Date: 5 p.m. ET 9/28/21.

Docket Numbers: RP21-1123-000.

Applicants: Tennessee Gas Pipeline Company, L.L.C.

Description: § 4(d) Rate Filing: Volume No. 2—Cabot Oil SP359490 & Citadel SP367774 to be effective 11/1/2021.

Filed Date: 9/16/21.

Accession Number: 20210916-5018.

Comment Date: 5 p.m. ET 9/28/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-351-005.

Applicants: Tennessee Gas Pipeline Company, L.L.C.

Description: Compliance filing: 2021 Settlement Rates Docket No. RP19-351-005 to be effective 11/1/2021.

Filed Date: 9/15/21.

Accession Number: 20210915-5025.

Comment Date: 5 p.m. ET 9/27/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2021.
Kimberly D. Bose,
Secretary.

[FR Doc. 2021-20482 Filed 9-21-21; 8:45 am]

BILLING CODE 6717-01-P